POSTAL REGULATORY COMMISSION

[Docket No. MC2022-60; Order No. 6212]

Modification of Special Services Product List

AGENCY: Postal Regulatory Commission.

ACTION: Notice.

SUMMARY: The Commission is extending the comment deadline in this docket.

DATES: Comments are due: July 7, 2022.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION: The Postal Regulatory Commission (Commission) initiated the instant docket to examine the potential need to make a modification to the Mail Classification Schedule (MCS) in order to fulfill the Commission's responsibilities under the Postal Accountability and Enhancement Act (PAEA), Public Law 109-435, 120 Stat. 3198 (2006), and the Postal Service Reform Act of 2022, Public Law 117-89, 136 Stat. 1127 (2022), and pursuant to 39 CFR 3040 subpart D.¹ The Commission invited “comments on whether the Postal Service's Pilot Program comports with 39 CFR 3035, 39 CFR 3040, 39 CFR 3045, 39 U.S.C. 404, 39 U.S.C. 3632, 39 U.S.C. 3633, and 39 U.S.C. 3641.” Order No. 6174 at 6. The Commission established a deadline of June 30, 2022 for such comments. See id. at 7.

¹ Notice and Order Concerning Potential Modification of Special Services on the Competitive Product List, May 16, 2022, at 1 (Order No. 6174).

On June 27, 2022, the American Postal Workers Union, AFL-CIO (APWU) filed a motion for an extension of time until July 7, 2022 to file its comments.² APWU requests this extension “to be able to collect information that may be relevant to the Commission and to offer insight on the legality of this docket” in light of the recent unavailability of key personnel and the upcoming July Fourth holiday. Motion at 2. Furthermore, APWU asserts that the requested extension “would not significantly delay the ultimate resolution of this proceeding, nor adversely affect any possible participants.” Id.

² American Postal Workers Union, AFL-CIO Motion for Extension of Time to File Public Comment, June 27, 2022, at 1-2 (Motion).

The requested extension will not significantly delay this proceeding. See 39 CFR 3010.162(c). Further, the requested extension, if provided to all participants, will not have a potential adverse impact on other participants. See id. Consequently, the Commission will extend the deadline for filing comments until July 7, 2022 for all commenters.

It is ordered:

1. The American Postal Workers Union, AFL-CIO Motion for Extension of Time to File Public Comment, filed on June 27, 2022, which requests an extension of time until July 7, 2022, is granted.

2. Comments are due no later than July 7, 2022.

3. The Secretary of the Commission shall arrange for prompt publication of this order in the Federal Register.

By the Commission.
Erica A. Barker,
Secretary.

[FR Doc. 2022-14300 Filed 7-5-22; 8:45 am]

BILLING CODE 7710-FW-P